DEPARTMENT OF THE INTERIOR

Fish and Wildlife Service

[FWS-R9-FHC-2008-N0174; 94300-1122-0000-Z2]

Wind Turbine Guidelines Advisory Committee; Announcement of Public Meeting

AGENCY: Fish and Wildlife Service, Interior.

ACTION: Notice of public meeting.

SUMMARY: We, the U.S. Fish and Wildlife Service (Service), will host a Wind Turbine Guidelines Advisory Committee (Committee) meeting, on July 23-24, 2008. The meeting is open to the public. The meeting agenda will include reports from the Subcommittees on Existing Guidelines, Legal, Landscape Habitat (Mapping), Science Tools and Procedures, and Other Models/Uncertainty; and briefings from Service regional offices on wind/wildlife issues.

DATES: The meeting will take place on July 23-24, 2008, from 8 a.m. to 4:30 p.m.

ADDRESSES: South Interior Auditorium, South Interior Building, 1951 Constitution Avenue, NW., Washington, DC 20240. For more information, see “Public Workshop and Meeting Location Information” under SUPPLEMENTARY INFORMATION.

FOR FURTHER INFORMATION CONTACT: Rachel London, Division of Habitat and Resource Conservation, U.S. Fish and Wildlife Service, Department of the Interior, (703) 358-2161.

SUPPLEMENTARY INFORMATION:

Background

On March 13, 2007, the Department of the Interior (Interior) published a notice of establishment of the Committee and call for nominations in the Federal Register (72 FR 11373). The Committee's purpose is to provide advice and recommendations to the Secretary of the Interior (Secretary) on developing effective measures to avoid or minimize impacts to wildlife and their habitats related to land-based wind energy facilities. The Committee is expected to exist for 2 years and meet approximately four times per year. Its continuation is subject to biennial renewal. All Committee members serve without compensation. In accordance with the Federal Advisory Committee Act (5 U.S.C. App.), a copy of the Committee's charter has been filed with the Committee Management Secretariat, General Services Administration; Committee on Environment and Public Works, U.S. Senate; Committee on Natural Resources, U.S. House of Representatives; and the Library of Congress. The Secretary appointed 22 individuals to the Committee on October 24, 2007, representing the varied interests associated with wind energy development and its potential impacts to wildlife species and their habitats. The USFWS has held Committee meetings in February, April, and June of 2008. All Committee meetings are open to the public. The public has an opportunity to comment at all Committee meetings.

Meeting Location Information

Please note that the South Main Interior auditorium is accessible to wheelchair users. If you require additional accommodations, please notify us by July 16, 2008.

All persons planning to attend the meeting will be required to present photo identification when entering the building. Because of building security in the Department of the Interior, we recommend that persons planning to attend the workshop and/or meeting register at http://www.fws.gov/habitatconservation/windpower/wind_turbine_advisory_committee.html by July 16, 2008, to allow us sufficient time to provide the building security staff with a list of persons planning to attend. You may still attend if you register after July 16, 2008; however, seating is limited due to room capacity. We will give preference to registrants based on date and time of registration. There will be standing room available if all seats are filled.

Dated: July 26, 2008.
Rachel London,
Alternate Designated Federal Officer, Wind Turbine Guidelines Advisory Committee.

[FR Doc. E8-15665 Filed 7-9-08; 8:45 am]

BILLING CODE 4310-55-P